DEPARTMENT OF HEALTH AND HUMAN SERVICES

National Institutes of Health

National Institute of Environmental Health Sciences; Notice of Meeting

Pursuant to section 10(d) of the Federal Advisory Committee Act, as amended, notice is hereby given of a meeting of the National Advisory Environmental Health Sciences Council.

The meeting will be open to the public as indicated below. Individuals who plan to attend virtually and will need special assistance, such as sign language interpretation or other reasonable accommodations, should notify the Contact Person listed below in advance of the meeting.

The meeting will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Advisory Environmental Health Sciences Council.

Date: June 2, 2020.

Closed: 10:00 a.m. to 10:45 a.m.

Agenda: To review and evaluate grant applications.

Place: 111 T.W. Alexander Drive, Research Triangle Park, NC 27709 (Virtual Meeting).

Open: 11:00 a.m. to 3:30 p.m.

Agenda: Discussion of program policies and issues.

Place: 111 T.W. Alexander Drive, Research Triangle Park, NC 27709 (Virtual Meeting).

Virtual Access: https://www.niehs.nih.gov/ and https://www.niehs.nih.gov/news/webcasts.

Contact Person: Patrick Mastin, Ph.D., Chief Cellular, Organs, and Systems Pathobiology Branch, Division of Extramural Research and Training, National Institute of Environmental, Health Sciences, Research Triangle Park, NC 27709, 984-287-3285 mastin@niehs.nih.gov.

The open session will be live streamed through the NIEHS YouTube Live channel but hosted directly for attendees on the public NIEHS website: https://www.niehs.nih.gov/news/webcasts. Please note, the link to the meeting will be posted the day of the meeting but won't start until open session begins.

Any member of the public interested in presenting oral comments to the committee may notify the Contact Person listed on this notice at least 10 days in advance of the meeting. Interested individuals and representatives of organizations may submit a letter of intent, a brief description of the organization represented, and a short description of the oral presentation. Only one representative of an organization may be allowed to present oral comments and if accepted by the committee, presentations may be limited to five minutes. Both printed and electronic copies are requested for the record. In addition, any interested person may file written comments with the committee by forwarding their statement to the Contact Person listed on this notice. The statement should include the name, address, telephone number and when applicable, the business or professional affiliation of the interested person.

Information is also available on the Institute's/Center's home page: https://www.niehs.nih.gov/about/boards/naehsc/agenda/index.cfm, where an agenda and any additional information for the meeting will be posted when available.

(Catalogue of Federal Domestic Assistance Program Nos. 93.115, Biometry and Risk Estimation—Health Risks from Environmental Exposures; 93.142, NIEHS Hazardous Waste Worker Health and Safety Training; 93.143, NIEHS Superfund Hazardous Substances—Basic Research and Education; 93.894, Resources and Manpower Development in the Environmental Health Sciences; 93.113, Biological Response to Environmental Health Hazards; 93.114, Applied Toxicological Research and Testing, National Institutes of Health, HHS)

Dated: May 8, 2020.
Tyeshia M. Roberson,
Program Analyst, Office of Federal Advisory Committee Policy.

[FR Doc. 2020-10271 Filed 5-12-20; 8:45 am]

BILLING CODE 4140-01-P